DEPARTMENT OF TRANSPORTATION

Federal Aviation Administration

Notice of Passenger Facility Charge (PFC) Approvals and Disapprovals

AGENCY: Federal Aviation Administration (FAA), DOT.

ACTION: Monthly Notice of PFC Approvals and Disapprovals. In April 2013, there were six applications approved. This notice also includes information on five applications, approved in March 2013, inadvertently left off the March 2013 notice. Additionally, seven approved amendments to previously approved applications are listed.

SUMMARY: The FAA publishes a monthly notice, as appropriate, of PFC approvals and disapprovals under the provisions of the Aviation Safety and Capacity Expansion Act of 1990 (Title IX of the Omnibus Budget Reconciliation Act of 1990) (Pub. L. 101-508) and Part 158 of the Federal Aviation Regulations (14 CFR part 158). This notice is published pursuant to paragraph d of § 158.29.

PFC Applications Approved

Public Agency: Port Authority of New York and New Jersey, New York, New York.

Application Number: 12-08-C-00-EWR.

Application Type: Impose and use a PFC.

PFC Level: $4.50.

Total PFC Revenue Approved in This Decision: $121,393,042.

Earliest Charge Effective Date: August 1, 2014.

Estimated Charge Expiration Date: October 1, 2017.

Class of Air Carriers Not Required To Collect PFC'S: Nonscheduled/on-demand air carriers operating at Newark Liberty International Airport (EWR).

Determination: Approved. Based on information submitted in the public agency's application, the FAA has determined that the proposed class accounts for less than 1 percent of the total annual enplanements at EWR.

Brief Description of Project Approved for Collection at EWR and Use at La Guardia Airport (LGA) at a $4.50 PFC Level: LGA runways 4 and 31 runway safety area planning, environmental, and engineering.

Brief Description of Project Partially Approved for Collection at EWR for Future Use at EWR at a $4.50 PFC Level: EWR delay reduction phase II—construction.

Determination: Partially approved. Certain project components were determined to be ineligible for PFC funding.

Brief Description of Projects Partially Approved for Collection at EWR and Use at EWR at a $4.50 PFC Level:

EWR runway 4R/22L rehabilitation.

EWR taxiway P rehabilitation including high-speed taxiways.

EWR runway 4L/22R rehabilitation.

EWR runway 11 runway safety area and relocation of Brewster Road.

EWR electrical distribution and substation improvements.

Determination: Partially approved. Certain components in each project were determined to be ineligible for PFC funding.

Brief Description of Project Partially Approved for Collection at EWR for Future Use at LGA at a $4.50 PFC Level: LGA runways 4 and 31 runway safety area construction.

Determination: Partially approved. Certain project components were determined to be ineligible for PFC funding.

Brief Description of Project Approved for Collection at EWR for Future Use at John F. Kennedy International Airport (JFK) at a $4.50 PFC Level: JFK runway 4L/22R rehabilitation.

Brief Description of Project Approved for Collection at EWR and Use at JFK at a $3.00 PFC Level: JFK taxiway P rehabilitation planning and engineering.

Brief Description of Project Approved for Collection at EWR and Use at EWR at a $3.00 PFC Level: EWR delay reduction phase II—planning and engineering.

Brief Description of Project Approved for Collection at EWR and Use at EWR, JFK, LGA, and Stewart International Airport (SWF) at a $3.00 PFC Level: PFC planning and program administration.

Decision Date: March 8, 2013.

FOR FURTHER INFORMATION CONTACT: Steve Urlass, New York Airports District Office, (516) 227-3803.

Public Agency: Port Authority of New York and New Jersey, New York, New York.

Application Number: 12-08-C-00-JFK.

Application Type: Impose and use a PFC.

PFC Level: $4.50.

Total PFC Revenue Approved in This Decision: $296,109,860.

Earliest Charge Effective Date: June 1, 2014.

Estimated Charge Expiration Date: September 1, 2017.

Class of Air Carriers Not Required To Collect PFC'S: Nonscheduled/on-demand air carriers operating at JFK.

Determination: Approved. Based on information submitted in the public agency's application, the FAA has determined that the proposed class accounts for less than 1 percent of the total annual enplanements at JFK.

Brief Description of Project Approved for Collection at JFK and Use at LGA at a $4.50 PFC Level: LGA runways 4 and 31 runway safety area planning, environmental, and engineering.

Brief Description of Project Partially Approved for Collection at JFK for Future Use at EWR at a $4.50 PFC level: EWR delay reduction phase II—construction.

Determination: Partially approved. Certain project components were determined to be ineligible for PFC funding.

Brief Description of Projects Partially Approved for Collection at JFK and Use at EWR at a $4.50 PFC Level:

EWR runway 4R/22L rehabilitation.

EWR taxiway P rehabilitation including high-speed taxiways.

EWR runway 4L/22R rehabilitation.

EWR runway 11 runway safety area and relocation of Brewster Road.

EWR electrical distribution and substation improvements.

Determination: Partially approved. Certain components in each project were determined to be ineligible for PFC funding.

Brief Description of Project Partially Approved for Collection at JFK for Future Use at LGA at a $4.50 PFC Level: LGA runways 4 and 31 runway safety area construction.

Determination: Partially approved. Certain project components were determined to be ineligible for PFC funding.

Brief Description of Project Approved for Collection at JFK for Future Use at JFK at a $4.50 PFC Level: JFK runway 4L/22R rehabilitation.

Brief Description of Project Approved for Collection at JFK and Use at JFK at a $3.00 PFC Level: JFK taxiway P rehabilitation planning and engineering.

Brief Description of Project Approved for Collection at JFK and Use at EWR at a $3.00 PFC Level: EWR delay reduction phase II—planning and engineering.

Brief Description of Project Approved for Collection at JFK and Use at EWR, JFK, LGA, and SWF at a $3.00 PFC Level: PFC planning and program administration.

Decision Date: March 8, 2013.

FOR FURTHER INFORMATION CONTACT: Steve Urlass, New York Airports District Office, (516) 227-3803.

Public Agency: Port Authority of New York and New Jersey, New York, New York.

Application Number: 12-08-C-00-LGA.

Application Type: Impose and use a PFC.

PFC Level: $4.50.

Total PFC Revenue Approved in This Decision: $150,655,394.

Earliest Charge Effective Date: June 1, 2014.

Estimated Charge Expiration Date: September 1, 2017.

Class of Air Carriers Not Required to Collect PFC's: Nonscheduled/on-demand air carriers operating at LGA.

Determination: Approved. Based on information submitted in the public agency's application, the FAA has determined that the proposed class accounts for less than 1 percent of the total annual enplanements at LGA.

Brief Description of Project Approved for Collection at LGA and Use at LGA at a $4.50 PFC Level: LGA runways 4 and 31 runway safety area planning, environmental, and engineering.

Brief Description of Project Partially Approved for Collection at LGA for Future Use at EWR at a $4.50 PFC Level: EWR delay reduction phase II—construction.

Determination: Partially approved. Certain project components were determined to be ineligible for PFC funding.

Brief Description of Projects Partially Approved for Collection at LGA and Use at EWR at a $4.50 PFC Level:

EWR runway 4R/22L rehabilitation.

EWR taxiway P rehabilitation including high-speed taxiways.

EWR runway 4L/22R rehabilitation.

EWR runway 11 runway safety area and relocation of Brewster Road.

EWR electrical distribution and substation improvements.

Determination: Partially approved. Certain components in each project were determined to be ineligible for PFC funding.

Brief Description of Project Partially Approved for Collection at LGA for Future Use at LGA at a $4.50 PFC Level: LGA runways 4 and 31 runway safety area construction.

Determination: Partially approved. Certain project components were determined to be ineligible for PFC funding.

Brief Description of Project Approved for Collection at LGA for Future Use at JFK at a $4.50 PFC Level: JFK runway 4L/22R rehabilitation.

Brief Description of Project Approved for Collection at LGA and Use at JFK at a $3.00 PFC Level: JFK taxiway P rehabilitation planning and engineering.

Brief Description of Project Approved for Collection at LGA and Use at EWR at a $3.00 PFC Level: EWR delay reduction phase II—planning and engineering.

Brief Description of Project Approved for Collection at LGA and Use at EWR, JFK, LGA, and SWF at a $3.00 PFC Level: PFC planning and program administration.

Decision Date: March 8, 2013.

FOR FURTHER INFORMATION CONTACT: Steve Urlass, New York Airports District Office, (516) 227-3803.

Public Agency: Port Authority of New York and New Jersey, New York, New York.

Application Number: 12-05-C-00-SWF.

Application Type: Impose and use a PFC.

PFC Level: $4.50.

Total PFC Revenue Approved in This Decision: $3,372,027.

Earliest Charge Effective Date: February 1, 2014.

Estimated Charge Expiration Date: February 1, 2018.

Class of Air Carriers Not Required to Collect PFC's: Nonscheduled/on-demand air carriers operating at SWF.

Determination: Approved. Based on information submitted in the public agency's application, the FAA has determined that the proposed class accounts for less than 1 percent of the total annual enplanements at SWF.

Brief Description of Project Approved for Collection at SWF and Use at LGA at a $4.50 PFC Level: LGA runways 4 and 31 runway safety area planning, environmental, and engineering.

Brief Description of Project Partially Approved for Collection at SWF for Future Use at EWR at a $4.50 PFC Level: EWR delay reduction phase II—construction.

Determination: Partially approved. Certain project components were determined to be ineligible for PFC funding.

Brief Description of Projects Partially Approved for Collection at SWF and Use at EWR at a $4.50 PFC Level:

EWR runway 4R/22L rehabilitation.

EWR taxiway P rehabilitation including high-speed taxiways.

EWR runway 4L/22R rehabilitation.

EWR runway 11 runway safety area and relocation of Brewster Road.

EWR electrical distribution and substation improvements.

Determination: Partially approved. Certain components in each project were determined to be ineligible for PFC funding.

Brief Description of Project Partially Approved for Collection at SWF for Future Use at LGA at a $4.50 PFC Level: LGA runways 4 and 31 runway safety area construction.

Determination: Partially approved. Certain project components were determined to be ineligible for PFC funding.

Brief Description of Project Approved for Collection at SWF for Future Use at JFK at a $4.50 PFC Level: JFK runway 4L/22R rehabilitation.

Brief Description of Project Approved for Collection at SWF and Use at JFK at a $3.00 PFC Level: JFK taxiway P rehabilitation planning and engineering.

Brief Description of Project Approved for Collection at SWF and Use at EWR at a $3.00 PFC Level: EWR delay reduction phase II—planning and engineering.

Brief Description of Project Approved for Collection at SWF and Use at EWR, JFK, LGA, and SWF at a $3.00 PFC Level: PFC planning and program administration.

Decision Date: March 8, 2013.

FOR FURTHER INFORMATION CONTACT: Steve Urlass, New York Airports District Office, (516) 227-3803.

Public Agency: Jackson Hole Airport Board, Jackson Hole, Wyoming.

Application Number: 13-13-C-00-JAC.

Application Type: Impose and use a PFC.

PFC Level: $4.50.

Total PFC Revenue Approved in This Decision: $14,221,770.

Earliest Charge Effective Date: July 1, 2026.

Estimated Charge Expiration Date: September 1, 2041.

Class of Air Carriers Not Required to Collect PFC'S: None.

Brief Description of Projects Approved for Collection and Use:

Terminal baggage claim expansion and renovation.

Construct deicing (glycol) containment facility.

Install runway centerline lights.

Acquire snow removal equipment.

Improve runway safety area.

Develop wildlife management plan.

PFC administrative costs.

Decision Date: March 28, 2013.

FOR FURTHER INFORMATION CONTACT: Jesse Lyman, Denver Airports District Office, (303) 342-1262.

Public Agency: Ports of Douglas County and Chelan County, East Wenatchee, Washington.

Application Number: 13-11-C-00-EAT.

Application Type: Impose and use a PFC.

PFC Level: $4.50.

Total PFC Revenue Approved in This Decision: $556,704.

Earliest Charge Effective Date: August 1, 2014.

Estimated Charge Expiration Date: August 1, 2016.

Class of Air Carriers Not Required to Collect PFC's: None.

Brief Description of Projects Approved for Collection and Use:

Rehabilitate aircraft rescue and firefighting station.

Terminal building security improvements.

Modify terminal building (phase VI).

Brief Description of Project Approved for Use: Aircraft rescue and firefighting truck purchase.

Decision Date: April 5, 2013.

FOR FURTHER INFORMATION CONTACT: Trang Tran, Seattle Airports District Office, (425) 227-1662.

Public Agency: Westmoreland County Airport Authority, Latrobe, Pennsylvania.

Application Number: 13-02-C-00-LBE.

Application Type: Impose and use a PFC.

PFC Level: $4.50.

Total PFC Revenue Approved in This Decision: $829,690.

Earliest Charge Effective Date: July 1, 2013.

Estimated Charge Expiration Date: January 1, 2014.

Class of Air Carriers Not Required to Collect PFC's: None.

Brief Description of Projects Approved for Collection and Use:

Master plan update.

Part 150 noise study.

Purchase snow removal equipment.

Install security/perimeter fencing.

Perimeter fence and gates.

Acquire aircraft rescue and firefighting safety equipment.

Rehabilitate terminal apron.

Environmental assessment.

Install automated weather observing system phase III.

Acquire snow removal equipment.

Extend access taxiway.

Expand maintenance building.

Improve terminal heating, ventilation, and air conditioning.

Construct taxiways.

Security enhancements.

Construct T-hangar taxiway.

Improve runway 5/23 runway safety area phase I.

Remove obstructions.

Acquire snow removal equipment.

Security enhancements.

Improve runway 5/23 runway safety area phase II.

Acquire air traffic control tower equipment.

Improve runway 5/23 runway safety area phase III.

Improve airport drainage.

Acquire snow removal equipment.

Acquire land.

Construct T-hangar taxiway phase II.

Acquire passenger loading bridge.

Improve air traffic control tower.

Acquire deicing equipment.

Rehabilitate access road phase I.

Improve runway 5/23 runway safety area phase IV.

Improve terminal utilities.

Acquire snow removal equipment.

Upgrade medium intensity approach light system and runway alignment indicator lights.

Rehabilitate air traffic control tower.

Acquire aircraft rescue and firefighting vehicle.

Rehabilitate access road phase II.

Wildlife assessment.

Rehabilitate access road phase III.

Rehabilitate runway 5/23 phase I.

Expand aircraft rescue and firefighting building.

Upgrade medium intensity approach light system and runway alignment indicator lights phase II.

Rehabilitate parallel taxiway phase II.

Expand aircraft rescue and firefighting building phase II.

Rehabilitate access road phase IV.

Expand terminal parking phase V.

Rehabilitate passenger loading bridge.

Rehabilitate runway 5/23 phase II.

Upgrade medium intensity approach light system and runway alignment indicator lights phase III.

Wildlife hazard management plan.

Decision Date: April 17, 2013.

FOR FURTHER INFORMATION CONTACT: Lori Ledebohm, Harrisburg Airports District Office, (717) 730-2835.

Public Agency: Mobile Airport Authority, Mobile, Alabama.

Application Number: 13-06-C-00-MOB.

Application Type: Impose and use a PFC.

PFC Level: $3.00.

Total PFC Revenue Approved in This Decision: $3,705,879.

Earliest Charge Effective Date: June 1, 2013.

Estimated Charge Expiration Date: October 1, 2017.

Class of Air Carriers Not Required to Collect PFC's: Air taxi/commercial operators filing FAA Form 1800-31 and operating at Mobile Regional Airport (MOB).

Determination: Approved. Based on information submitted in the public agency's application, the FAA has determined that the proposed class accounts for less than 1 percent of the total annual enplanements at MOB.

Brief Description of Projects Approved for Collection and Use:

Wildlife hazard assessment and management plan.

Noise mitigation program.

East airfield storm water detention area.

Replace airfield beacon.

Baggage conveyor chutes.

Terminal rehabilitation phase II.

Terminal road rehabilitation phase II.

Taxiway R rehabilitation.

Runway 18/36 and partial taxiway R rehabilitation.

12-foot culvert rehabilitation under runway 14/32 (design).

Master plan update.

Aircraft rescue and firefighting building rehabilitation.

Aircraft rescue and firefighting quick response vehicle.

Replace airfield signage (design).

Security lighting upgrade phase II.

Airfield drainage phase III (construction).

Security system rehabilitation (design).

Baggage information display system/flight information display system rehabilitation (design).

Rehabilitate 12-foot culvert under runway 14/32 (construction).

Replace airfield signage (construction).

Update security system construction.

Part 139 interactive employee training equipment and workstations.

Airfield lighting vault improvements.

Terminal rehabilitation phase III.

Brief Description of Project Approved for Collection: Expand apron.

Brief Description of Disapproved Project: Security towing vehicle.

Determination: Disapproved. This project does not meet the requirements of § 158.15(b).

Decision Date: April 18, 2013.

FOR FURTHER INFORMATION CONTACT: Jonathan Linquist, Jackson Airports District Office, (601) 664-9893.

Public Agency: Charleston County Aviation Authority, Charleston, South Carolina.

Application Number: 13-03-C-00-CHS.

Application Type: Impose and use a PFC.

PFC Level: $4.50.

Total PFC Revenue Approved in This Decision: $173,506,475.

Earliest Charge Effective Date: May 1, 2015.

Estimated Charge Expiration Date: November 1, 2040.

Class of Air Carriers Not Required to Collect PFC's: Air taxi/commercial operators filing FAA Form 1800-31 that operate at Charleston International Airport (CHS).

Determination: Approved. Based on information submitted in the public agency's application, the FAA has determined that the proposed class accounts for less than 1 percent of the total annual enplanements at CHS.

Brief Description of Project Approved for Collection and Use: PFC application development and implementation.

Brief Description of Project Partially Approved for Collection and Use: Terminal redevelopment and improvement.

Determination: Partially approved. Several areas of the terminal were determined to be revenue-producing and, thus, ineligible for PFC funding.

Decision Date: April 18, 2013.

FOR FURTHER INFORMATION CONTACT: Robert Rau, Atlanta Airports District Office, (404) 305-7004.

Public Agency: City of El Paso, Texas.

Application Number: 13-06-C-00-ELP.

Application Type: Impose and use a PFC.

PFC Level: $4.50.

Total PFC Revenue Approved in This Decision: $19,085,123.

Earliest Charge Effective Date: June 1, 2013.

Estimated Charge Expiration Date: December 1, 2016.

Class of Air Carriers Not Required to Collect PFC's: Air taxi/commercial operators filing FAA Form 1800-31.

Determination: Approved. Based on information submitted in the public agency's application, the FAA has determined that the proposed class accounts for less than 1 percent of the total annual enplanements at El Paso International Airport.

Brief Description of Projects Approved for Collection and Use:

Baggage claim units.

Baggage makeup area.

PFC implementation and administrative costs.

Brief Description of Projects Partially Approved for Collection and Use: Passenger loading bridges.

Determination: Partially approved. One of the loading bridges proposed for replacement was determined to still be within its useful life and to still be operating appropriately. Therefore, the replacement loading bridge for this gate was determined to be ineligible under § 158.15(b).

Airport access control system.

Determination: Partially approved. The public agency identified 16 separate components in this project but the FAA determined that only two of the components were eligible for PFC funding.

Central plant upgrade.

Determination: Partially approved. Two of the proposed components, replacement of terminal lighting and installation of terminal window solar film, both intended to provide efficiency improvements, did not meet the requirements of § 158.15(b).

Decision Date: April 23, 2013.

FOR FURTHER INFORMATION CONTACT: Mike Nicely, Texas Airports Development Office, (817) 222-5650.

Public Agency: County of Albany and City of Laramie, Laramie, Wyoming.

Application Number: 13-03-C-00-LAR.

Application Type: Impose and use a PFC.

PFC Level: $4.50.

Total PFC Revenue Approved in This Decision: $185,425.

Earliest Charge Effective Date: June 1, 2013.

Estimated Charge Expiration Date: June 1, 2017.

Class of Air Carriers Not Required to Collect PFC's: Air taxi/commercial operators filing FAA Form 1800-31.

Determination: Approved. Based on information submitted in the public agency's application, the FAA has determined that the proposed class accounts for less than 1 percent of the total annual enplanements at Laramie regional Airport.

Brief Description of Projects Approved for Collection and Use:

Update airport master plan.

Rehabilitate apron.

Rehabilitate runway 12/30 (maintenance).

Construct access road.

Rehabilitate runway 12/30.

Acquire snow removal equipment.

PFC administration.

Decision Date: April 24, 2013.

FOR FURTHER INFORMATION CONTACT: Jesse Lyman, Denver Airports District Office, (303) 342-1262.

Amendments to PFC Approvals
Amendment No. city, state | Amendment approved date | Original approved net PFC revenue | Amended approved net PFC revenue | Original estimated charge exp. date | Amended estimated charge exp. date
09-04-C-01-HNL, Honolulu, HI | 04/03/13 | $105,909,130 | $127,112,161 | 02/01/14 | 02/01/14
09-04-C-01-OGG, Kahului, HI | 04/03/13 | 24,663,770 | 29,601,463 | 02/01/14 | 02/01/14
09-04-C-01-KOA, Kailua Kona, HI | 04/03/13 | 7,254,050 | 8,706,313 | 02/01/14 | 02/01/14
09-04-C-01-LIH, Lihue, HI | 04/03/13 | 7,254,050 | 8,706,313 | 02/01/14 | 02/01/14
08-07-C-02-MOD, Modesto, CA | 04/05/13 | 337,634 | 304,183 | 04/01/12 | 04/01/12
10-10-C-01-EAT, Wenatchee, WA | 04/05/13 | 881,750 | 381,750 | 08/01/14 | 08/01/14
08-05-C-03-AVP, Avoca, PA | 04/09/13 | 5,790,104 | 1,518,104 | 08/01/17 | 12/01/16

Issued in Washington, DC, on December 6, 2013.
Joe Hebert,
Manager, Financial Analysis and Passenger Facility Charge Branch.

[FR Doc. 2013-29934 Filed 12-16-13; 8:45 am]

BILLING CODE 4910-13-P